SELECTIVE SERVICE SYSTEM

Privacy Act of 1974; Computer Matching Program

AGENCY: Selective Service System.

ACTION: Notice of a modified matching program.

SUMMARY: This document provides notice of the continuation of a computer matching program between the Selective Service System and the Department of Education.

DATES: We must receive your comments on or before June 30, 2017.

The re-established matching program will be effective on the latest of the following three dates: (A) July 2, 2017; (B) 30 days from the date on which the Selective Service System (SSS) publishes a Computer Matching Notice in the Federal Register, as required by 5 U.S.C. 552a(e)(12) and OMB Circular A-108, assuming that SSS receives no public comments or receives public comments but makes no changes to the Matching Notice as a result of the public comments, or 30 days from the date on which SSS publishes a Revised Matching Notice in the Federal Register, assuming that SSS receives public comments and revises the Matching Notice as a result of public comments; or (C) 60 days from the date on which SSS transmits the report of the matching program, as required by 5 U.S.C. 552a(r) and OMB Circular A-108, to OMB, the U.S. House Committee on Oversight and Government Reform, and the U.S. Senate Committee on Homeland Security and Governmental Affairs, unless OMB waives any days of the 60-day review period for compelling reasons, in which case 60 days minus the number of days waived by OMB from the date of SSS's transmittal of the report of the matching program.

The matching program will continue for 18 months after the effective date and may be extended for an additional 12 months thereafter, if the conditions specified in 5 U.S.C. 552a(o)(2)(D) have been met.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

1. Federal eRulemaking Portal: Go to www.regulations.gov to submit your comments electronically. Information on using Regulations.gov, including instructions for accessing agency documents, submitting comments, and viewing the docket, is available on the site under the “help” tab.

2. Postal Mail, Commercial Delivery, or Hand Delivery: If you mail or deliver your comments about these proposed regulations, address them to Thomas Devine, Registration Program Analyst, Selective Service System, 1515 Wilson Boulevard, Arlington, Virginia, 22209-2425.

Privacy Note: The Agency's policy is to make all comments received from members of the public available for public viewing in their entirety on the Federal eRulemaking Portal at www.regulations.gov. Therefore, commenters should be careful to include in their comments only information that they wish to make publicly available.

FOR FURTHER INFORMATION CONTACT: Mr. Thomas Devine, Registration Program Analyst, Selective Service System, 1515 Wilson Boulevard, Arlington, Virginia, 22209-2425.

If you use a telecommunications device for the deaf (TDD) or a text telephone (TTY), call the Federal Relay Service (FRS), toll free, at 1-800-877-8339.

SUPPLEMENTARY INFORMATION: We provide this notice in accordance with 5 U.S.C. 552a (commonly known as the Privacy Act of 1974); Office of Management and Budget (OMB) Final Guidance Interpreting the Provisions of Pub. L. 100-503 the Computer Matching and Privacy Protection Act of 1988, 54 FR 25818 (June 19, 1989); and OMB Circular A-108, https://obamawhitehouse.archives.gov/sites/default/files/omb/assets/OMB/circulars/a108/omb_circular_a-108.pdf.

Participating Agencies: The Selective Service System and the U.S. Department of Education (ED).

Authority for Conducting the Matching Program: The information contained in the SSS database is referred to as the Registration, Compliance and Verification System (RCV), which contains the Selective Service System Registrants Registration Records (SSS-9). ED seeks access to the RCV for the purpose of the registration status of applicants for assistance under title IV of the Higher Education Act of 1965 (HEA), as amended (20 U.S.C. 1070 et. seq.). Section 12(f) of the Military Selective Service Act (MSSA), as amended [50 U.S.C. App. 462(f)], denies eligibility for any form of assistance or benefit under Title IV of the HEA to any person required to present himself for and submit to registration under Section 3 of the MSSA [50 U.S.C. App. 453] who fails to do so in accordance with that section and any rules and regulations issued under that section. In addition, § 12(f)(2) of the MSSA specifies that any person required to present himself for and submit to registration under Section 3 of the MSSA must file a statement with the institution of higher education where the person intends to attend or is attending that he is in compliance with the MSSA. Furthermore, § 12(f)(3) of the MSSA authorizes the Secretary of Education, in agreement with the Director of the Selective Service System, to prescribe methods for verifying the statements of compliance filed by students.

Purpose(s): The matching program, which has been in effect since December 6, 1985 will permit ED to confirm the registration status of applicants for, or recipients of, financial assistance under title IV of the Higher Education Act of 1965, as amended (HEA), as authorized by section 484(g) of the HEA (20 U.S.C. 1091(g)).

Categories of Individuals: The individuals included in this matching program are men born after December 31, 1959, but at least 18 years old by January 1 of the applicable award year. As identified on both the Federal Student Aid Application File (18-11-01) and the Selective Service Registration Records (SSS-9).

System(s) of Records: SSS system of Records: Computer Matching between the Selective Service System and the Department of Education (79 FR 70264, November 25, 2014).

1. Accessible Format: Individuals with disabilities can obtain this document in an accessible format (such as, braille, large print, audiotape, or compact disc) on request to the contact person listed in the preceding paragraph.

2. Electronic Access to This Document: The official version of this document is the document published in the Federal Register. Free Internet access to the official edition of the Federal Register and the Code of Federal Regulations is available through the Federal Digital System at: www.gpo.gov/fdsys. At this site you can view this document, as well as all other documents of this Department published in the Federal Register, in text or PDF. To use PDF you must have Adobe Acrobat Reader, which is available free at the site.

You may also access documents of the Department published in the Federal Register by using the article search feature at: www.federalregister.gov. Specifically, through the advanced search feature at this site, you can limit your search to documents published by the Department.

Authority: 5 U.S.C. 552a.

Dated: April 26, 2017.
Donald M. Benton,
Director.

[FR Doc. 2017-11130 Filed 5-30-17; 8:45 am]

BILLING CODE 8015-01-P